DEPARTMENT OF STATE

[Public Notice 8507]

U.S. Department of State Advisory Committee on Private International Law (ACPIL): Public Meeting on Cross-Border Insolvency

The Office of the Assistant Legal Adviser for Private International Law, Department of State, gives notice of a public meeting to discuss potential future work related to cross-border insolvency issues under consideration in the United Nations Commission on International Trade Law (UNCITRAL). The public meeting will take place on Monday, November 4, 2013 from 9:00 a.m. until 12 p.m. EDT. This is not a meeting of the full Advisory Committee.

UNCITRAL has developed a number of instruments related to cross-border insolvency law, including the UNCITRAL Model Law on Cross-Border Insolvency, a 4-part Legislative Guide on Insolvency Law, and multiple explanatory texts regarding the Model Law. These texts are available online at http://www.uncitral.org/uncitral/uncitral_texts/insolvency.html. UNCITRAL is now seeking to determine what its next insolvency-related projects should be. These issues will be discussed during a colloquium and a meeting of UNCITRAL's Working Group V scheduled for December 16-20, 2013. Documents related to these UNCITRAL meetings are located at http://www.uncitral.org/uncitral/en/commission/colloquia/insolvency-2013.html and http://www.uncitral.org/uncitral/en/commission/working_groups/5Insolvency.html.

The purpose of the public meeting is to obtain the views of concerned stakeholders on the topics under consideration by Working Group V for future work. Those who cannot attend but wish to comment are welcome to do so by email to Tim Schnabel at SchnabelTR@state.gov.

Time and Place: The meeting will take place from 9:00 a.m. until 12:00 p.m. in Room 6421, Harry S Truman Building, 2201 C Street NW., Washington, DC 20520. Participants should plan to arrive at the C Street entrance by 8:30 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than October 28, 2013. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: October 17, 2013.
Timothy R. Schnabel,
Attorney-Adviser, Office of Private International Law, Office of Legal Adviser, Department of State.

[FR Doc. 2013-25403 Filed 10-25-13; 8:45 am]

BILLING CODE 4710-08-P